FEDERAL COMMUNICATIONS COMMISSION

Sunshine Meeting Act; Canceled

Special Commission Meeting Scheduled for October 24, 2014

The Federal Communications Commission has canceled the Special Commission Meeting on the subject listed below, previously scheduled for Friday, October 24, 2014 at 445 12th Street SW., Washington, DC. This item has been adopted by the Commission.

Bureau | Subject
Enforcement | Title: Enforcement Bureau Action.
| Summary: The Commission will consider whether to take an enforcement action.

Additional information concerning this meeting may be obtained from Meribeth McCarrick, Office of Media Relations, telephone number (202) 418-0500; TTY 1-888-835-5322.

Federal Communications Commission.
Marlene H. Dortch,
Secretary.

[FR Doc. 2014-27565 Filed 11-18-14; 11:15 am]

BILLING CODE 6712-01-P